DEPARTMENT OF LABOR

Employment and Training Administration

[TA-W-58,215]

Bespak, Inc. Tenax Corporation, Apex, N.C.; Amended Certification Regarding Eligibility To Apply for Worker Adjustment Assistance and Alternative Trade Adjustment Assistance

In accordance with section 223 of the Trade Act of 1974 (19 U.S.C. 2273), and section 246 of the Trade Act of 1974, as amended, the Department of Labor issued a Certification of Eligibility to Apply for Worker Adjustment Assistance and Alternative Trade Adjustment Assistance on December 2, 2005, applicable to workers of Bespak, Inc., Apex, North Carolina. The notice was published in the Federal Register on December 21, 2005 (70 FR 75841).

At the request of a former employee, the Department reviewed the certification for workers of the subject firm. The workers produce drug delivery devices (inhalers, bags, pumps, I.V. lines, and syringes).

The company official provided information to the Department confirming that the workers wages at the subject firm are reported under the Unemployment Insurance tax account for Tenax Corporation, which is a member of the Bespak Group.

Based on this new information, the Department is amending the certification to include workers of Bespak, Inc., Apex, North Carolina, whose wages are reported to Tenax Corporation.

The amended notice applicable to TA-W-58,215 is hereby issued as follows:

All workers of Bespak, Inc., Tenax Corporation, Apex, North Carolina, who became totally or partially separated from employment on or after October 25, 2004, through December 2, 2007, are eligible to apply for adjustment assistance under section 223 of the Trade Act of 1974, and are also eligible to apply for alternative trade adjustment assistance under section 246 of the Trade Act of 1974.

Signed at Washington, DC, this 20th day of January 2006.
Linda G. Poole,
Certifying Officer, Division of Trade Adjustment Assistance.

[FR Doc. E6-1179 Filed 1-30-06; 8:45 am]

BILLING CODE 4510-30-P